DEPARTMENT OF THE TREASURY

Internal Revenue Service

26 CFR Parts 1 and 602

[TD 9590]

RIN 1545-BJ82

Health Insurance Premium Tax Credit

Correction

In rule document 2012-12421 appearing on pages 30377-30400 in the issue of Wednesday, May 23, 2012, make the following corrections:

1. On page 30385, in the third column, in the third line, “Washington, DC All” should read “Washington DC. All”.

§ 1.36B-4 [Corrected]

2. On page 30399, in the second column, in § 1.36B-4(b)(6), in Example 9, in the last two lines of paragraph (ii), the equation in parentheses should read “($60,000 × .095)”.

[FR Doc. C1-2012-12421 Filed 7-12-12; 8:45 am]

BILLING CODE 1505-01-D